DEPARTMENT OF HOMELAND SECURITY

Federal Emergency Management Agency

44 CFR Part 65

[Docket ID FEMA-2011-0002; Internal Agency Docket No. FEMA-B-1205]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
New Mexico:
Santa Fe | City of Santa Fe (10-06-0575P) | December 21, 2010; December 28, 2010; The Santa Fe New Mexican | The Honorable David Coss Mayor, City of Santa Fe, P.O. Box 909, 200 Lincoln Avenue, Santa Fe, NM 87504 | November 22, 2010 | 350070
Santa Fe | Unincorporated areas of Santa Fe County (10-06-2504P) | December 29, 2010; January 5, 2011; The Santa Fe New Mexican | The Honorable Harry B. Montoya, Chairman, Santa Fe County Board of Commissioners, 102 Grant Avenue, Santa Fe, NM 87501 | May 5, 2011 | 350069
New York:
Monroe | Town of Irondequoit (10-02-0839P) | September 24, 2010; September 30, 2010; The Messenger-Post | The Honorable Mary J. D'Aurizio, Supervisor, Town of Irondequoit, 1280 Titus Avenue, Rochester, NY 14617 | March 17, 2011 | 360422
Rockland | Town of Orangetown (10-02-0398P) | October 8, 2010; October 15, 2010; The Journal News | The Honorable Paul Whalen, Supervisor, Town of Orangetown, 26 Orangeburg Road, Orangeburg, NY 10962 | April 4, 2011 | 360686
Oklahoma:
Cleveland | City of Moore (10-06-2515P) | December 17, 2010; December 24, 2010; The Norman Transcript | The Honorable Glenn Lewis, Mayor, City of Moore, 301 North Broadway Street, Moore, OK 73160 | April 25, 2011 | 400044
Cleveland | Unincorporated areas of Cleveland County (10-06-2515P) | December 17, 2010; December 24, 2010; The Norman Transcript | Mr. Rusty Sullivan, Cleveland County Commissioner, 201 South Jones Avenue, Norman, OK 73069 | April 25, 2011 | 400475
Oklahoma | City of Edmond (10-06-0168P) | February 22, 2011; March 1, 2011; The Edmond Sun | The Honorable Patrice Douglas, Mayor, City of Edmond, P.O. Box 2970, Edmond, OK 73083 | June 29, 2011 | 400252
Tulsa | City of Tulsa (10-06-2732P) | December 7, 2010; December 14, 2010; The Tulsa World | The Honorable Dewey F. Bartlett, Mayor, City of Tulsa, 175 East 2nd Street, Suite 690, Tulsa, OK 74103 | April 13, 2011 | 405381
Texas:
Bell | City of Temple (10-06-1855P) | May 4, 2011; May 11, 2011; The Temple Daily Telegram | The Honorable William A. Jones, III, Mayor, City of Temple, 2 North Main Street, Temple, TX 76501 | September 8, 2011 | 480034
Bexar | Unincorporated areas of Bexar County (09-06-3226P) | November 12, 2010; November 19, 2010; The San Antonio Express-News | The Honorable Nelson W. Wolff, Bexar County Judge, 100 Dolorosa Street, Suite 1.20, San Antonio, TX 78205 | November 5, 2010 | 480035
Bexar | Unincorporated areas of Bexar County (10-06-0377P) | September 28, 2010; October 5, 2010; The San Antonio Express-News | The Honorable Nelson W. Wolff, Bexar County Judge, 100 Dolorosa Street, Suite 1.20, San Antonio, TX 78205 | February 2, 2011 | 480035
Brazos | City of College Station (10-06-2875P) | May 9, 2011; May 16, 2011; The Eagle | The Honorable Nancy Berry, Mayor, City of College Station, 1101 Texas Avenue, College Station, TX 77840 | September 13, 2011 | 480083
Brazos | City of College Station (10-06-0657P) | May 11, 2011; May 18, 2011; The Eagle | The Honorable Nancy Berry, Mayor, City of College Station, 1101 Texas Avenue, College Station, TX 77840 | September 15, 2011 | 480083
Brazos | Unincorporated areas of Brazos County (10-06-2875P) | May 9, 2011; May 16, 2011; The Eagle | The Honorable Duane Peters, Brazos County Judge, 200 South Texas Avenue, Suite 332, Bryan, TX 77803 | September 13, 2011 | 481195
Cherokee | City of Jacksonville (10-06-2294P) | December 17, 2010; December 24, 2010; The Jacksonville Daily Progress | The Honorable Robert Haberle, D.C., Mayor, City of Jacksonville, P.O. Box 1390, Jacksonville, TX 75766 | November 29, 2010 | 480123
Collin | City of Allen (10-06-0342P) | September 30, 2010; October 7, 2010; The Allen American | The Honorable Stephen Terrell, Mayor, City of Allen, 305 Century Parkway, Allen, TX 75013 | September 21, 2010 | 480131
Collin | City of McKinney (10-06-3483P) | May 12, 2011; May 19, 2011; The McKinney Courier-Gazette | The Honorable Brian Loughmiller, Mayor, City of McKinney, 222 North Tennessee Street, McKinney, TX 75069 | June 6, 2011 | 480135
Dallas | City of Richardson (10-06-3057P) | March 15, 2011; March 22, 2011; The Dallas Morning News | The Honorable Gary Slagel, Mayor, City of Richardson, P.O. Box 830309, Richardson, TX 75083 | April 6, 2011 | 480184
El Paso | City of El Paso (10-06-2130P) | February 1, 2011; February 8, 2011; The El Paso Times | The Honorable John F. Cook, Mayor, City of El Paso, 2 Civic Center Plaza, El Paso, TX 79901 | June 8, 2011 | 480214
El Paso | City of El Paso (10-06-3638P) | May 20, 2011; May 27, 2011; The El Paso Times | The Honorable John F. Cook, Mayor, City of El Paso, 2 Civic Center Plaza, El Paso, TX 79901 | May 13, 2011 | 480214
Hays | Village of Wimberley (10-06-1474P) | September 29, 2010; October 6, 2010; The Wimberley View | The Honorable Bob Flocke, Mayor, Village of Wimberley, P.O. Box 2027, Wimberley, TX 78676 | January 27, 2011 | 481694
Montgomery | City of Conroe (10-06-1318P) | February 11, 2011; February 18, 2011; The Conroe Courier | The Honorable Webb K. Melder, Mayor, City of Conroe, P.O. Box 3066, 300 West Davis, Conroe, TX 77305 | June 20, 2011 | 480484
Montgomery | City of Montgomery (10-06-2378P) | May 13, 2011; May 20, 2011; The Conroe Courier | The Honorable Travis M. Mabry, Mayor, City of Montgomery, 101 Old Plantersville Road, Montgomery, TX 77356 | September 19, 2011 | 481483
Montgomery | Unincorporated areas of Montgomery County (10-06-2378P) | May 13, 2011; May 20, 2011; The Conroe Courier | The Honorable Alan B. Sadler, Montgomery County Judge, 501 North Thompson, Suite 401, Conroe, TX 77301 | September 19, 2011 | 480483
Tarrant | City of Arlington (10-06-1764P) | December 15, 2010; December 22, 2010; The Fort Worth Star-Telegram | The Honorable Robert Cluck, M.D., Mayor, City of Arlington, 101 West Abram Street, Arlington, TX 76004 | April 21, 2011 | 485454
Tarrant | City of Mansfield (10-06-0859P) | February 23, 2011; March 2, 2011; The Fort Worth Star-Telegram | The Honorable David Cook, Mayor, City of Mansfield, 1200 East Broad Street, Mansfield, TX 76063 | March 18, 2011 | 480606
Tarrant | City of Saginaw (10-06-0960P) | January 12, 2011; January 19, 2011; The Fort Worth Star-Telegram | The Honorable Gary Brinkley, Mayor, City of Saginaw, 333 West McLeroy Boulevard, Saginaw, TX 76179 | May 19, 2011 | 480610
Travis | City of Austin (10-06-1794P) | January 19, 2011; January 26, 2011; The Austin American-Statesman | The Honorable Lee Leffingwell, Mayor, City of Austin, P.O. Box 1088, Austin, TX 78767 | May 20, 2011 | 480624
Travis | Unincorporated areas of Travis County (10-06-1794P) | January 19, 2011; January 26, 2011; The Austin American-Statesman | The Honorable Samuel T. Biscoe, Travis County Judge, 314 West 11th Street, Suite 520, Austin, TX 78701 | May 20, 2011 | 481026
Webb | Unincorporated areas of Webb County (10-06-0114P) | May 13, 2010; May 20, 2010; The Laredo Morning Times | The Honorable Danny Valdez, Webb County Judge, 1000 Houston Street, 3rd Floor, Laredo, TX 78040 | September 17, 2010 | 481059

(Catalog of Federal Domestic Assistance No. 97.022, “Flood Insurance.”)

Dated: July 8, 2011.
Sandra K. Knight,
Deputy Federal Insurance and Mitigation Administrator, Mitigation, Department of Homeland Security, Federal Emergency Management Agency.

[FR Doc. 2011-18303 Filed 7-19-11; 8:45 am]

BILLING CODE 9110-12-P